DEPARTMENT OF HEALTH AND HUMAN SERVICES

Food and Drug Administration

Veterinary Medicine Advisory Committee; Amendment of Notice

AGENCY: Food and Drug Administration, HHS.

ACTION: Notice.

The Food and Drug Administration (FDA) is announcing an amendment to the notice of meeting of the Veterinary Medicine Advisory Committee. This meeting was announced in the Federal Register of September 18, 2003 (68 FR 54734). The amendment is being made to reflect changes in the Date and Time, and the Agenda, portions of the document. Specifically, due to withdrawal of permission by a sponsor to discuss a specific fourth generation cephalosporin on November 3, 2003, the topic has been indefinitely postponed. Discussions on November 5, 2003, regarding genetic engineering research with food animals have also been postponed.

FOR FURTHER INFORMATION CONTACT: Aleta Sindelar, Center for Veterinary Medicine (CVM) (HFV-3), Food and Drug Administration, 7519 Standish Pl., Rockville, MD 20855, 301-827-4515, e-mail: asindela@cvm.fda.gov, or FDA Advisory Committee Information Line, 1-800-741-8138 (301-443-0572 in the Washington, DC area), code 12546. Please call the Information Line for up-to-date information on this meeting.

SUPPLEMENTARY INFORMATION: In the Federal Register of September 18, 2003, FDA announced that a meeting of the Veterinary Medicine Advisory Committee will be held on November 3, 4, and 5, 2003. On page 54734, in the second column, the Date and Time portion of the meeting is amended to read as follows:

Date and Time: The meeting will be held on November 4, 2003, from 9 a.m. to 5 p.m.

On page 54734, in the second column, the Agenda portion of the meeting is amended to read as follows:

Agenda: On November 4, 2003, the committee will hear a preview of a draft risk assessment on animal cloning using somatic cell nuclear transfer. The risk assessment addresses both animal health and consumption of food derived from animal clones and their progeny. Background information that includes a draft executive summary of the risk assessment will be made available to committee members and the public in advance of the meeting and posted on CVM's home page at http://www.fda.gov/cvm. A limited number of paper copies of the background information will be available at the registration table. The complete draft risk assessment document will be made available for public comment at a later date.

Dated: October 28, 2003.
Peter J. Pitts,
Associate Commissioner for External Relations.

[FR Doc. 03-27558 Filed 10-29-03; 1:11 pm]

BILLING CODE 4160-01-S